DEPARTMENT OF THE INTERIOR

Geological Survey

[GX25DK20UFD6100; OMB Control Number 1028-0114]

Agency Information Collection Activities; National Ground-Water Monitoring Network Cooperative Funding Application

AGENCY: U.S. Geological Survey, Department of the Interior.

ACTION: Notice of information collection; request for comment.

SUMMARY: In accordance with the Paperwork Reduction Act (PRA) of 1995, we, the U.S. Geological Survey (USGS) are proposing to renew an information collection.

DATES: Interested persons are invited to submit comments. To be considered, your comments must be received on or before July 14, 2025.

ADDRESSES: You may submit comments by one of the following methods:

Internet: https://www.regulations.gov. Search for and submit comments on Docket No. USGS-Water-2025-0002.

U.S. Mail: USGS, Information Collections Clearance Officer, 12201 Sunrise Valley Drive, MS 159, Reston, VA 20192.

FOR FURTHER INFORMATION CONTACT: Jason Fine by email at jmfine@usgs.gov, or by telephone at (919) 817-5395. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA, 44 U.S.C. 3501 et seq and 5 CFR 1320.8(d)(1), all information collections require approval under the PRA. An agency may not conduct or sponsor, nor is a person required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the USGS, including whether or not the information will have practical utility;

(2) The accuracy of our estimate of the burden for this collection of information, including the validity of the methodology and assumptions used;

(3) Ways to enhance the quality, utility, and clarity of the information to be collected; and

(4) How the USGS might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS administers the National Ground-Water Monitoring Network (NGWMN) which was developed through work with the Federal Advisory Committee on Water Information and its Subcommittee on Ground Water. This network is required as part of Public Law 111-11, title IX, subtitle F, “Secure Water,” section 9507, “Water data enhancement by United States Geological Survey,” codified at 42 U.S.C. 10367.

The NGWMN consists of an aggregation of wells and springs from existing Federal, State, Tribal, and local groundwater monitoring networks. To support data providers for the NGWMN, the USGS will be providing funding through cooperative agreements to water-resource agencies that collect groundwater data.

The USGS will be soliciting applications for funding that will request information from the agency collecting the data. Elements will include contact information (phone number and email address), and a proposal describing their proposed work in support of the NGWMN. The proposal will describe the groundwater networks to be included in the NGWMN, the purpose of the networks, and the principal aquifers that are monitored. Proposals may include work to become a new data provider to the NGWMN, support for maintaining connections to agency databases, and work to enhance NGWMN sites (updating metadata, well maintenance, well drilling, and support for continuous water-level monitoring equipment). The proposal would require estimates of costs to complete the above tasks and a timeline for planned completion. The proposal will be reviewed by the USGS and the NGWMN Program Board who will make funding recommendations.

Title of Collection: National Ground-Water Monitoring Network Cooperative Funding Application.

OMB Control Number: 1028-0114

Form Number: None.

Type of Review: Renewal of a currently approved collection

Respondents/Affected Public: Multi-state, state or local water-resources agencies who operate groundwater monitoring networks.

Total Estimated Number of Annual Respondents: 20.

Total Estimated Number of Annual Responses: 20.

Estimated Completion Time per Response: 40 hours.

Total Estimated Number of Annual Burden Hours: 800 hours.

Respondent's Obligation: Mandatory to be considered for funding.

Frequency of Collection: Annually.

Total Estimated Annual Non hour Burden Cost: None.

The authority for this action is the PRA of 1995 (44 U.S.C. 3501 et seq.).

Joseph Nielsen,
Director, Integrated Information Dissemination Division, USGS Water Resources Mission Area.

[FR Doc. 2025-08509 Filed 5-13-25; 8:45 am]

BILLING CODE 4338-11-P